DEPARTMENT OF THE INTERIOR

Bureau of Land Management

[MT-039-1310-EJ]

Notice of Public Meeting, Dakotas Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM), Dakotas Resource Advisory Council will meet as indicated below.

DATES: A meeting will be held February 9, 2006, at the Days Inn Grand Dakota Lodge at 532 15th Street West, Dickinson, ND 58601, beginning at 8 a.m. The public comment period will begin at 8 a.m.

SUPPLEMENTARY INFORMATION: The 15-member Council advises the Secretary of the Interior, through the Bureau of Land Management, on a variety of planning and management issues associated with public land management in North and South Dakota. All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM as provided below. The Council will hear updates to Recreation Resource Advisory Committee roles, Off Highway Vehicle Planning, Sage Grouse Conservation Plan, and upcoming resource management planning efforts.

FOR FURTHER INFORMATION CONTACT: Marian Atkins, Field Manager, South Dakota Field Office, 310 Roundup St., Belle Fourche, South Dakota, 605.892.7000, or Lonny Bagley, Field Manager, North Dakota Field Office, 2933 3rd Ave., W. Dickinson, North Dakota, 701.227.7700.

Dated: December 12, 2005.
Lonny R. Bagley,
Field Manager.

[FR Doc. E5-7490 Filed 12-16-05; 8:45 am]

BILLING CODE 4310-$$-P